DEPARTMENT OF TRANSPORTATION

Federal Aviation Administration

14 CFR Part 39

[Docket No. 2003-CE-47-AD; Amendment 39-13584; AD 2004-08-15]

RIN 2120-AA64

Airworthiness Directives; Goodrich Avionics Systems, Inc. TAWS8000 Terrain Awareness Warning System

AGENCY: Federal Aviation Administration, DOT.

ACTION: Final rule; correction.

SUMMARY: This document makes a correction to Airworthiness Directive (AD) 2004-08-15, which was published in the Federal Register on April 21, 2004 (69 FR 21393), and applies to all Goodrich Avionics Systems, Inc. (Goodrich) TAWS8000 terrain awareness warning systems (TAWS) that are installed on airplanes. We incorrectly referred to paragraph (d)(1) in the Compliance column of paragraph (e)(2). The correct reference is (e)(1). This action corrects the table in paragraph (e) of AD 2004-08-15, Amendment 39-13584.

EFFECTIVE DATE: The effective date of this AD remains June 7, 2004.

FOR FURTHER INFORMATION CONTACT: Brenda S. Ocker, Aerospace Engineer, FAA, Chicago Aircraft Certification Office, 2300 East Devon Avenue, Des Plaines, Illinois 60018; telephone: (847) 294-7126; facsimile: (847) 294-7834.

SUPPLEMENTARY INFORMATION:

Discussion

On April 13, 2004, FAA issued AD 2004-08-15, Amendment 39-13584 (69 FR 21393), that applies to all Goodrich TAWS8000 terrain awareness warning systems (TAWS) that are installed on airplanes. This AD requires you to inspect the TAWS installation and modify any TAWS where both the TAWS and any other device are connected to the same baro set potentiometer. This AD also prohibits future installation or reconfiguration of any TAWS8000 TAWS that does not incorporate hardware “Mod C”.

Need for the Correction

The FAA incorrectly referred to paragraph (d)(1) in the Compliance column of paragraph (e)(2). The correct reference is (e)(1). This action corrects the table in paragraph (e) of AD 2004-08-15, Amendment 39-13584.

This correction is needed to ensure that the affected airplane owners/operators do the corrective action after the inspection required in paragraph (e)(1).

Correction of Publication

Accordingly, the publication of April 21, 2004 (69 FR 21393), of Amendment 39-13584; AD 2004-08-15, which was the subject of FR Doc. 04-8792, is corrected as follows:

PART 39—AIRWORTHINESS DIRECTIVES

§ 39.13 [Corrected]

On page 21395, in § 39.13 [Amended], 2., replace the text in the Compliance column of paragraph (e)(2) of the AD with the following text: Before further flight after the inspection required in paragraph (e)(1) of this AD.”

Action is taken herein to correct this reference in AD 2004-08-15 and to add this AD correction to § 39.13 of the Federal Aviation Regulations (14 CFR 39.13).

The effective date remains June 7, 2004.

Issued in Kansas City, Missouri, on May 18, 2004.
James E. Jackson,
Acting Manager, Small Airplane Directorate, Aircraft Certification Service.

[FR Doc. 04-11704 Filed 5-24-04; 8:45 am]

BILLING CODE 4910-13-P